ENVIRONMENTAL PROTECTION AGENCY

[FRL-9945-38-OEI]

Privacy Act of 1974; System of Records

AGENCY: U.S. Environmental Protection Agency (EPA).

ACTION: Notice of new Privacy Act system of records.

SUMMARY: The U.S. Environmental Protection Agency's (EPA's) Office of Land and Emergency Management is giving notice that it proposes to create a new system of records pursuant to the provisions of the Privacy Act of 1974 (5 U.S.C. 552a). This system of records contains information of individuals which is collected in the course of response and environmental assessment actions, including actions taken under a variety of EPA authorities. The information maintained under this SORN is needed to support EPA's decision making process on what actions may be necessary to address potential environmental impacts at residential properties, including necessary remediation activities. This information is collected to ensure an appropriate and cohesive response to situations requiring EPA response activities and to protect the health and welfare of residents potentially affected by an environmental or public health emergency, and maintained so to be accessible as needed for coordination of environmental response activities. This information may include individuals' contact information, information related to their address or place of residence, correspondence, and related information collected in the course of sampling and cleanup work.

DATES: Persons wishing to comment on this system of records notice must do so by May 31, 2016. If no comments are received, the system of records notice will become effective by May 31, 2016.

ADDRESSES: Submit your comments, identified by Docket ID No. EPA-HQ-2016-0100, by one of the following methods:

www.regulations.gov: Follow the online instructions for submitting comments.

Email: oei.docket@epa.gov.

Fax: 202-566-1752.

Mail: OEI Docket, Environmental Protection Agency, Mailcode: 2822T, 1200 Pennsylvania Ave. NW., Washington, DC 20460.

Hand Delivery: OEI Docket, EPA/DC, EPA West Building, Room 3334, 1301 Constitution Ave. NW., Washington, DC. Such deliveries are only accepted during the Docket's normal hours of operation, and special arrangements should be made for deliveries of boxed information.

Instructions: Direct your comments to Docket ID No. EPA-HQ-OEI-2016-0100. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, EPA West Building, Room 3334, 1301 Constitution Ave. NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Terrence Ferguson, Office of Land and Emergency Management (OLEM), Office of Superfund Remediation and Technology Information (OSRTI), Mail Code 5202T, 1200 Pennsylvania Ave. NW., Washington, DC 20460; telephone number (202) 566-0370.

SUPPLEMENTARY INFORMATION: The U.S. Environmental Protection Agency (EPA) is creating a Privacy Act system of records to allow the agency to maintain records that are necessary to conduct environmental assessments at residential properties in order to respond to emergency situations and during environmental assessment activities conducted by EPA under many different programs including Superfund, the Resource Conservation and Recovery Act (RCRA), and the Safe Drinking Water Act (SDWA). This system of records promotes transparency, efficiency, and improved environmental and health outcomes by encompassing all records associated with EPA residential assessment work, including the database repositories, field documentation, and analytical reports. Over the course of these assessments EPA is often required to support or work closely with state and local agencies or federal agencies in responses to evaluate the health and welfare of affected communities. EPA's environmental assessment activities at residential properties include: Obtaining and tracking legal access to the properties; gathering environmental data through sampling activities, such as sampling air, water, soil, or other environmental media at sites; collecting information about pipelines, building materials, and other residential infrastructure at residences; and collecting residential contact information such as name, address, and phone number to allow response teams to correspond with individuals affected by environmental contamination.

The types of data collected in environmental assessments include names of residents; address information; phone number or other contact information; test results from environmental sampling; information about the building structure, such as the age of the structure, information about the service lines, plumbing and pipe information, and building materials in the structure; information about the length of residence or ownership of the structure; and geographic information system (GIS) coordinates. This information is collected to ensure an appropriate and cohesive response to emergency situations, to protect the health and welfare of residents potentially affected by an environmental emergency or environmental response situation, and to ensure that the data are accessible as needed for coordination of response activities.

Information and data collected in environmental assessments will generally be stored in an agency-approved electronic database, which will be managed by EPA system administrators. Other associated records may also be stored in other electronic or paper formats, such as Microsoft Excel spreadsheets, Microsoft Word documents or tables, or in file folders. All electronic files are stored on government furnished equipment (GFE) until they are ultimately sent to the appropriate agency records repository for storage pursuant to their appropriate record schedule. All GFE used for the purposes of residential assessments are secured according to EPA's security policies which include password protection and local encryption. During the course of the assessment records may also be temporarily stored off site in secure facilities such as incident command posts or EPA field offices which are maintained and secured by EPA staff.

The system will be maintained by the EPA's Office of Emergency Response in the Office of Land and Emergency Management (“OLEM”), 1200 Pennsylvania Ave. NW., Mail Code 5101 T, Washington, DC 20460.

Information maintained pursuant to this SORN may be located at EPA Headquarters Offices or at EPA Regional Offices or at field offices established as part of the residential assessment field work, depending upon the location where the assessment is conducted or where computer resources are located. Databases may be hosted at the EPA's National Computer Center at Research Triangle Park, North Carolina or at cloud hosting procured and managed by EPA.

Records protected under the Privacy Act are subject to agency-wide security requirements. For information in agency databases, privacy is maintained by limiting access to the database that contains the personal information. Access to the database is limited to individuals designated as System Administrators, Remedial Project Managers, Data Sponsors, On-Scene Coordinators, Information Management Coordinators, Budget Coordinators, Regional or Headquarters Attorneys, Regional or Headquarters Managers, Data Entry Support Staff, Support Contractors, and any other EPA staff with assigned responsibilities that require access to the data. In appropriate circumstances, limited access to the database systems may be provided to state and local public health authorities in conformity with federal, state, and local laws when necessary to protect the public health or safety.

Date: April 14, 2016.
Ann Dunkin,
Chief Information Officer.

EPA-74

SYSTEM NAME AND NUMBER:

EPA-74, Environmental Assessments of Residential Properties (EARP).

SYSTEM LOCATION:

The system will be maintained by the EPA's Office of Emergency Response in the Office of Land and Emergency Management (OLEM), 1200 Pennsylvania Ave. NW., Mail Code 5101 T, Washington, DC 20460. Information maintained pursuant to this notice may be located at EPA Headquarters Offices or at EPA Regional Offices, or at field offices established as part of the residential assessment field work, depending upon the location where the environmental assessment is conducted or where computer resources are located. Databases may be hosted at the EPA's National Computer Center at Research Triangle Park, North Carolina, or in OLEM's emergency response cloud hosting environment.

AUTHORITY FOR MAINTENANCE OF THE SYSTEM:

Resource Conservation and Recovery Act, 42 U.S.C.6981; Comprehensive Environmental Response, Compensation and Liability Act, 42 U.S.C. 9604, 9660; Clean Air Act, 42 U.S.C. 7403; Safe Drinking Water Act, 42 U.S.C. 300i; 300j-1; Federal Water Pollution Control Act, 33 U.S.C. 1254, 1318, 1321; Toxic Substances Control Act, 15 U.S.C. 2609; Federal Insecticide, Fungicide, and Rodenticide Act, 7 U.S.C. 136r.

PURPOSE(S):

The EPA is creating a Privacy Act system of records to allow the agency to maintain records that are necessary to conduct environmental assessments at residential properties in order to respond to emergency situations and during environmental assessment activities conducted by EPA under many different programs including Superfund, RCRA, and the SDWA. This system of records promotes transparency, efficiency, and improved environmental and health outcomes by encompassing all of the records associated with EPA residential assessment work, including the database repositories, field documentation and analytical reports. Over the course of these assessments EPA is often required to support or work closely with state and local agencies or federal agencies to evaluate the health and welfare of affected communities. EPA's environmental assessment activities at residential properties include: Obtaining and tracking legal access to the properties; gathering environmental data through sampling activities, such as sampling air, water, soil, or other environmental media at sites; collecting structural information such as the age of the structure, information about the service lines, plumbing and pipe information, and building materials in the structure, information about the length of residence or ownership of the structure, and GIS coordinates; and collecting residential contact information such as name, address, and phone number to allow response teams to correspond with individuals affected by environmental contamination.

CATEGORIES OF INDIVIDUALS COVERED BY THE SYSTEM:

Members of the public such as residents, property owners, property managers, and other individuals who may be associated with a property whose information needs to be collected as part of EPA's environmental assessment and response activities. In addition, EPA staff, contractors, or grantees or any other individuals engaged in response activities may have their information in the system such as name, office address, and contact information to facilitate assessment and response activities.

CATEGORIES OF RECORDS IN THE SYSTEM:

The types of data collected in environmental assessments include names of residents; names of property owners; tenant information; names of property managers address information; phone number or other contact information; test results from environmental sampling; information about residential structures such as the age of the structure, information about the service lines, plumbing and pipe information, and building materials in the structure, information about the length of residence or ownership of the structure, and GIS coordinates.

Other site-specific data elements may also be collected if needed for the environmental assessment or emergency response activity. These data will be maintained in a database where they may be filtered or searched on individual data elements.

RECORD SOURCE CATEGORIES:

Records within this system of records are obtained by EPA employees, contractors, or grantees collecting environmental assessment data and sample information at residential sites, or from state or local governments who have collected environmental assessment information as part of their response authorities. Environmental assessment data is received from interviews with residents, property owners, property managers, and other individuals who may be associated with a property, local public records such as property tax data, from inspections of residential properties, from residential property records or other public records, and from other on-site sources such as EPA or contracted laboratories and EPA or contracted GIS systems.

ROUTINE USES OF RECORDS MAINTAINED IN THE SYSTEM, INCLUDING CATEGORIES OF USERS AND PURPOSES OF SUCH USES:

General routine uses A, D, E, F, H, K, and L apply to this system. Records may also be disclosed to public health authorities in conformity with federal, state, and local laws when necessary to protect the public health or safety, or to federal, state, or local governmental agencies when it is determined that a response by that agency is more appropriate than a response by the EPA.

POLICIES AND PRACTICES FOR STORING, RETRIEVING, RETAINING, AND DISPOSING OF RECORDS IN THE SYSTEM:

• Storage: Information collected in environmental assessments will generally be stored in an agency-approved electronic database, which will be managed by EPA system administrators. Other associated records may also be stored in other electronic or paper formats, such as Microsoft Excel spreadsheets, Microsoft Word documents or tables, or in file folders. All electronic files are stored on government furnished equipment (GFE) until they are ultimately sent to the appropriate Agency records repository for storage pursuant to their appropriate record schedule. All GFE used for the purposes of residential assessments are secured according to EPA's security policies which include password protection and local encryption. During the course of the assessment records may also be temporarily stored off site in secure facilities such as incident command posts or EPA field offices which are maintained and secured by EPA staff.

• Retrievability: Information may be retrieved by any collected data element, such as a resident's name or address, or information may be retrieved by GIS coordinates or by identifying numbers assigned to a person, sampling location, or residence.

• Safeguards: Electronic records are maintained in a secure, password protected electronic system. Paper files are maintained in locked file cabinets when not in use by EPA emergency response staff. All records are maintained in secure, access-controlled areas or buildings.

• Retention and Disposal: Records maintained in this system are subject to record schedule 1039, which is still being finalized.

SYSTEM MANAGER(S):

Terrence Ferguson, Office of Land and Emergency Management (OLEM), Office of Superfund Remediation and Technology Information (OSRTI), Mail Code 5202P, 1200 Pennsylvania Ave. NW., Washington, DC 20460; telephone number (202) 566-0370.

Because systems under this SORN may be located at Headquarters Offices or at EPA Regional Offices, depending upon the location where the emergency response is conducted, there may be additional specified system managers depending upon the nature and location of the response. These systems may be managed by Regional personnel or temporarily stored off site in secure facilities such as incident command posts or EPA field offices which are maintained and secured by EPA staff.

RECORD ACCESS PROCEDURES:

Request for access must be made in accordance with the procedures described in EPA's Privacy Act regulations at 40 CFR part 16. Requesters will be required to provide adequate identification, such as driver's license, employee identification card, or other identifying document. Additional identification procedures may be required in some instances.

CONTESTING RECORD PROCEDURES:

Requests for correction or amendment must identify the record to be changed and the corrective action sought. Complete EPA Privacy Act procedures are described in EPA's Privacy Act regulations at 40 CFR part 16.

NOTIFICATION PROCEDURE:

Any individual who wants to know whether this system of records contains a record about him or her, who wants access to his or her record, or who wants to contest the contents of a record, should make a written request to the EPA FOIA Office, Attn: Privacy Act Officer, MC 2822T, 1200 Pennsylvania Avenue NW., Washington, DC 20460.

EXEMPTIONS PROMULGATED FOR THE SYSTEM:

None.

[FR Doc. 2016-09290 Filed 4-20-16; 8:45 am]

BILLING CODE 6560-50-P